DEPARTMENT OF ENERGY

Federal Energy Regulatory Commission

[Docket No. CP10-132-000]

Caledonia Energy Partners, L.L.C.; Notice of Request Under Blanket Authorization

April 16, 2010.

Take notice that on April 12, 2010, Caledonia Energy Partners, L.L.C. (Caledonia), 20329 State Highway 249, Suite 400, Houston, Texas 77070, filed in Docket No. CP10-132-000, a prior notice request pursuant to sections 157.205 and 157.214 of the Federal Energy Regulatory Commission's regulations under the Natural Gas Act for authorization to increase its maximum storage capacity at its storage facility, the Caledonia Facility, located in Lowndes and Monroe Counties, Mississippi, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Caledonia proposes to increase the maximum certificated storage capacity of the Caledonia Facility from 22.7 billion cubic feet (Bcf) to 28.1 Bcf, and the working gas capacity from 16.9 Bcf to 22.0 Bcf. Caledonia states that the effect of these modifications will be to increase the maximum daily withdrawal rate to 550,000 Mcf/day, and the maximum injection rate to 558,000 Mcf/day. Caledonia declares that it does not have to construct any additional facilities to make this capacity available.

Any questions regarding the application should be directed to Daryl W. Gee, Enstor Operating Company, LLC, 20329 Hwy 249, Suite 400, Houston, Texas 77070, at (281) 374-3062.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. 2010-9409 Filed 4-22-10; 8:45 am]

BILLING CODE 6717-01-P